BUREAU OF CONSUMER FINANCIAL PROTECTION

[Docket No: CFPB-2020-0036]

Privacy Act of 1974; System of Records

AGENCY: Bureau of Consumer Financial Protection.

ACTION: Notice of a modified system of records.

SUMMARY: In accordance with the Privacy Act of 1974, as amended, the Bureau of Consumer Financial Protection, hereinto referred to as the Consumer Financial Protection Bureau (Bureau), gives notice of the establishment of a revised Privacy Act System of Records. This revised system will collect information related to the administration of the Bureau's advisory committees, to include applications to serve as members.

DATES: Comments must be received no later than December 18, 2020. The modified system of records will be effective December 28, 2020, unless the comments received result in a contrary determination.

ADDRESSES: You may submit comments, identified by the title and docket number (see above Docket No. CFPB-2020-0036), by any of the following methods:

• Federal eRulemaking Portal: http://www.regulations.gov. Follow the instructions for submitting comments.

• Email: privacy@cfpb.gov.

• Mail/Hand Delivery/Courier: Tannaz Haddadi, Chief Privacy Officer, Consumer Financial Protection Bureau, 1700 G Street NW, Washington, DC 20552. Please note that due to circumstances associated with the COVID-19 pandemic, the Bureau discourages the submission of comments by mail, hand delivery, or courier.

All submissions must include the agency name and docket number for this notice. In general, all comments received will be posted without change to http://www.regulations.gov. In addition, once the Bureau's headquarters reopens, comments will be available for public inspection and copying at 1700 G Street NW, Washington, DC 20552 on official business days between the hours of 10 a.m. and 5 p.m. Eastern Time. At that time, you can make an appointment to inspect comments by telephoning (202) 435-9169. All comments, including attachments and other supporting materials, will become part of the public record and subject to public disclosure. You should submit only information that you wish to make available publicly.

FOR FURTHER INFORMATION CONTACT: Tannaz Haddadi, Chief Privacy Officer, Consumer Financial Protection Bureau, 1700 G Street NW, Washington, DC 20552, (202) 435-7058.

SUPPLEMENTARY INFORMATION: The Bureau revises its Privacy Act System of Records Notice (SORN) “CFPB.016—CFPB Advisory Boards and Committees Records System” to be renamed “CFPB.016 CFPB Advisory Committees Records System.” As such, references to “board and committees” are changed to “advisory committees” throughout for accuracy. The Bureau modifies the categories of individuals in the system to include any individuals, including general members of the public, who apply to serve on the Bureau's advisory committees. Additionally, this modification clarifies that individuals may be recommended to serve on the boards or councils, not nominated, as previously noted. The Bureau also modifies the categories of records to: (1) Clarify that citizenship and/or resident status may be included as information collected to determine an individual's eligibility to serve on the advisory committees; and (2) include demographic information, such as gender and race/ethnicity information, to carry out the Bureau's interest in ensuring diversity. Furthermore, the Bureau modifies the policies and practices for the retention and disposal of records to include the approved general records schedule for maintaining records pertinent to the administration of the advisory committees. In addition, the Bureau makes non-substantive edits to Routine Use 8 to clarify its purpose; the actual disclosure permitted under the Routine Use remains unchanged. Finally, the Bureau is making non-substantive revisions to the SORN to align with the Office of Management and Budget's recommended model in Circular A-108, appendix II.

The report of the revised system of records has been submitted to the Committee on Oversight and Government Reform of the House of Representatives, the Committee on Homeland Security and Governmental Affairs of the Senate, and the Office of Management and Budget, pursuant to OMB Circular A-108, “Federal Agency Responsibilities for Review, Reporting, and Publication under the Privacy Act” (Dec. 2016),¹ and the Privacy Act of 1974, 5 U.S.C. 552a(r).

¹ Although pursuant to section 1017(a)(4)(E) of the Consumer Financial Protection Act, Public Law 111-203, the Bureau is not required to comply with OMB-issued guidance, it voluntarily follows OMB privacy-related guidance as a best practice and to facilitate cooperation and collaboration with other agencies.

SYSTEM NAME AND NUMBER:

CFPB.016—Advisory Committees System.

SECURITY CLASSIFICATION:

Unclassified.

SYSTEM LOCATION:

Consumer Financial Protection Bureau, 1700 G Street NW, Washington, DC 20552.

SYSTEM MANAGER(S):

Consumer Financial Protection Bureau, Chief Operating Officer, 1700 G Street NW, Washington, DC 20552.

AUTHORITY FOR MAINTENANCE OF THE SYSTEM:

Public Law 111-203, title X, sections 1011, 1012, 1014, codified at 12 U.S.C.5491, 5492, 5494.

PURPOSE(S) OF THE SYSTEM:

The system collects and maintains information on Bureau advisory committee members, and those that may interact with the Bureau regarding the committees. The records are used for administration of the advisory committees, including the evaluation of potential committee members for eligibility to serve on Bureau committees and the preparation of minutes and reports of Bureau advisory committee meetings, events, or programs. The information will also be used for administrative purposes to ensure quality control, performance, and improving management processes.

CATEGORIES OF INDIVIDUALS COVERED BY THE SYSTEM:

Individuals covered by this system include any individual who has recommended an individual to be on an advisory committee to the Bureau (Bureau board or council), applies to serve on an advisory committee, is currently serving on a Bureau advisory committee and/or has served on a Bureau advisory committee and is no longer serving. Bureau advisory committee alternatives are also included in this system. Individuals covered by this system also include any individual, including a member of the public, who upon invitation from a Bureau advisory committee, provides advice or comments or otherwise interacts with a Bureau advisory committee.

CATEGORIES OF RECORDS IN THE SYSTEM:

Information maintained on individuals who are applying to be, or are past, present or recommended members of Bureau advisory committees will include: (1) Contact information (e.g., name, business phone number, email address); (2) information relevant to the Bureau's determination of an individual's eligibility for serving on a Bureau advisory committees, including but not limited to (a) that individual's date of birth, place of birth, citizenship and/or resident status, and any prior or pending civil or criminal actions against that individual for the purpose of conducting a background investigation; (b) education, registration in professional societies, work experience, record of performance, publications authored, membership on other boards and committees, professional awards, for purposes of assessing an individual's qualifications for service; (3) financial disclosure information, declaration of desire and eligibility to serve, and lobbyist registrations, for purposes of identifying any potential conflicts of interest that may arise from an individual's service on a Bureau advisory committees; (4) names of professional references and notes and records of conversations with those references; (5) demographic information, such as gender and race/ethnicity; and (6) miscellaneous correspondence relating to the above. Information maintained on experts, consultants, and other members of the public invited to provide advice or comments to a Bureau advisory committee or otherwise interact with a Bureau advisory committee will include contact information (e.g., name, business phone number, email address).

RECORD SOURCE CATEGORIES:

Information in this system is obtained directly from the individual who is the subject of these records, including any individual who has recommended an individual to be on a Bureau advisory committee, has served as a reference for a Bureau board or committee member or applicant, or has been recommended or applied to be on a Bureau board or committee, is currently serving on a Bureau board or council, and/or has served on a Bureau board or council and is no longer serving, as well as board and council alternatives and any individual who upon invitation from a Bureau board or council, provides advice or comments on issues or has otherwise interacted with a Bureau board or council. Information is also collected, as necessary from third parties who provide information used by the Bureau to determine an individual's eligibility for serving on a Bureau board or council.

ROUTINE USES OF RECORDS MAINTAINED IN THE SYSTEM, INCLUDING CATEGORIES OF USERS AND THE PURPOSES OF SUCH USES:

These records may be disclosed, consistent with the Bureau's Disclosure of Records and Information Rules, promulgated at 12 CFR 1070 et seq., to:

(1) Appropriate agencies, entities, and persons when (a) the Bureau suspects or has confirmed that there has been a breach of the system of records; (b) the Bureau has determined that as a result of the suspected or confirmed breach there is a risk of harm to individuals, the Bureau (including its information systems, programs, and operations), the Federal Government, or national security; and (c) the disclosure made to such agencies, entities, and persons is reasonably necessary to assist in connection with the Bureau's efforts to respond to the suspected or confirmed breach or to prevent, minimize, or remedy such harm;

(2) Another Federal agency or Federal entity, when the Bureau determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach;

(3) Another Federal or State agency to (a) permit a decision as to access, amendment or correction of records to be made in consultation with or by that agency, or (b) verify the identity of an individual or the accuracy of information submitted by an individual who has requested access to or amendment or correction of records;

(4) The Executive Office of the President in response to an inquiry from that office made at the request of the subject of a record or a third party on that person's behalf;

(5) Congressional offices in response to an inquiry made at the request of the individual to whom the record pertains;

(6) Contractors, agents, or other authorized individuals performing work on a contract, service, cooperative agreement, job, or other activity on behalf of the Bureau or Federal Government and who have a need to access the information in the performance of their duties or activities;

(7) The Department of Justice (DOJ) for its use in providing legal advice to the Bureau or in representing the Bureau in a proceeding before a court, adjudicative body, or other administrative body, where the use of such information by the DOJ is deemed by the Bureau to be relevant and necessary to the advice or proceeding, and such proceeding names as a party in interest:

(a) The Bureau;

(b) Any employee of the Bureau in his or her official capacity;

(c) Any employee of the Bureau in his or her individual capacity where DOJ has agreed to represent the employee; or

(d) The United States, where the Bureau determines that litigation is likely to affect the Bureau or any of its components;

(8) To the public in the form of names, affiliations, and other pertinent biographical information of board or committee members that may be included in meeting minutes or other documents made publicly available through the Bureau website or other mechanisms; and

(9) Appropriate agencies, entities, and persons to the extent necessary to obtain information relevant to making a determination of whether an individual is eligible to serve on a CFPB board or committee.

POLICIES AND PRACTICES FOR STORAGE OF RECORDS:

The records are maintained in paper and electronic media. Access to electronic records is restricted to authorized personnel who have been issued non-transferrable access codes and passwords.

POLICIES AND PRACTICES FOR RETRIEVAL OF RECORDS:

Records are retrievable by a variety of fields including, without limitation, the individual's name, address, employer, or by some combination thereof.

POLICIES AND PRACTICES FOR RETENTION AND DISPOSAL OF RECORDS:

The Bureau maintains the committee meeting records in accordance with National Archive and Records Administration (NARA) General Records Schedules (GRS) 6.2 Federal Advisory Committee Records, item 050 (DAA-GRS-2015-0001-0005). The records are destroyed when superseded, obsolete, no longer needed, or upon termination of the committee, whichever is sooner. The Bureau maintains the applicant's or recommended member's records in accordance with GRS 6.2 Federal Advisory Committee Records, item 060 (DAA-GRS-2015-0001-0006). The records are destroyed when 3 years old, 3 years after submission of report, or 3 years after superseded or obsolete, as appropriate. Longer retention is authorized as required for business use.

ADMINISTRATIVE, TECHNICAL, AND PHYSICAL SAFEGUARDS:

Access to electronic records is restricted to authorized personnel who have been issued non-transferrable access codes and passwords. Other records are maintained in locked file cabinets or rooms with access limited to those personnel whose official duties require access.

RECORD ACCESS PROCEDURES:

Individuals seeking access to any record contained in this system of records may inquire in writing in accordance with instructions in 12 CFR 1070.50 et seq. Address such requests to: Chief Privacy Officer, Bureau of Consumer Financial Protection, 1700 G Street NW, Washington, DC 20552. Instructions are also provided on the Bureau website: https://www.consumerfinance.gov/foia-requests/submit-request/.

CONTESTING RECORD PROCEDURES:

Individuals seeking to contest the content of any record contained in this system of records may inquire in writing in accordance with instructions in 12 CFR 1070.50 et seq. Address such requests to: Chief Privacy Officer, Bureau of Consumer Financial Protection, 1700 G Street NW, Washington, DC 20552. Instructions are also provided on the Bureau website: https://www.consumerfinance.gov/privacy/amending-and-correcting-records-under-privacy-act/.

NOTIFICATION PROCEDURES:

See “Record Access Procedures” above.

EXEMPTIONS PROMULGATED FOR THE SYSTEM:

None.

HISTORY:

83 FR 23435; 78 FR 25428.

Dated: November 12, 2020.
Ren Essene,
Senior Agency Official for Privacy, Bureau of Consumer Financial Protection.

[FR Doc. 2020-25362 Filed 11-17-20; 8:45 am]

BILLING CODE 4810-AM-P